DEPARTMENT OF ENERGY

Office of Science; High Energy Physics Advisory Panel

AGENCY: Department of Energy.

ACTION: Notice of Open Meeting.

SUMMARY: This notice announces a meeting of the High Energy Physics Advisory Panel (HEPAP). Federal Advisory Committee Act (Pub. L. 92-463, 86 Stat. 770) requires that public notice of these meetings be announced in the Federal Register.

DATES: Thursday, February 14, 2008; 10 a.m. to 6 p.m. and Friday, February 15, 2008; 8:30 a.m. to 4 p.m.

ADDRESSES: Hotel Palomar, 2121 P St, NW., Washington, DC.

FOR FURTHER INFORMATION CONTACT: John Kogut, Executive Secretary; High Energy Physics Advisory Panel; U.S. Department of Energy; SC-25/Germantown Building, 1000 Independence Avenue, SW., Washington, DC 20585-1290; Telephone: 301-903-1298.

SUPPLEMENTARY INFORMATION: Purpose of Meeting: To provide advice and guidance on a continuing basis with respect to the high energy physics research program.

Tentative Agenda: Agenda will include discussions of the following:

Thursday, February 14, 2008, and Friday, February 15, 2008.

• Discussion of Department of Energy High Energy Physics Program

• Discussion of National Science Foundation Elementary Particle Physics Program

• Reports on and Discussions of Topics of General Interest in High Energy Physics

• Public Comment (10-minute rule)

Public Participation: The meeting is open to the public. If you would like to file a written statement with the Panel, you may do so either before or after the meeting. If you would like to make oral statements regarding any of these items on the agenda, you should contact John Kogut, 301-903-1298 or John.Kogut@science.doe.gov (e-mail). You must make your request for an oral statement at least 5 business days before the meeting. Reasonable provision will be made to include the scheduled oral statements on the agenda. The Chairperson of the Panel will conduct the meeting to facilitate the orderly conduct of business. Public comment will follow the 10-minute rule.

Minutes: The minutes of the meeting will be available for public review and copying within 90 days on the High Energy Physics Advisory Panel Web site at http://www.science.doe.gov/hep/hepap.shtm. Minutes will also be available by writing or calling John Kogut at the address and phone number listed above.

Issued at Washington, DC on January 24, 2008.
Rachel Samuel,
Deputy Committee Management Officer.

[FR Doc. E8-1501 Filed 1-28-08; 8:45 am]

BILLING CODE 6450-01-P